ENVIRONMENTAL PROTECTION AGENCY

[FRL-9977-16-Region 10]

Proposed Issuance of NPDES General Permit for Hydroelectric Facilities Within the State of Idaho (IDG360000)

AGENCY: Environmental Protection Agency (EPA).

ACTION: Notice of proposed issuance of NPDES General Permit and request for public comment.

SUMMARY: The Director, Office of Water and Watersheds, Environmental Protection Agency (EPA) Region 10, is proposing to issue a National Pollutant Discharge Elimination System (NPDES) General Permits for Hydroelectric Facilities discharging to waters within the State of Idaho (Permit No. IDG360000). As proposed, the hydroelectric general permit would protect surface waters from discharges of oil, grease and alterations to pH from facility and equipment outfalls and minimize the impacts of the cooling water intake structures to fish and aquatic organisms.

DATES: Comments must be received by June 11, 2018.

ADDRESSES: Comments on the draft General Permit should be sent to Director, Office of Water and Watersheds; USEPA Region 10; 1200 Sixth Avenue, Suite 155, OWW-191; Seattle, WA 98101 and may also be submitted by fax to (206) 553-1280 or electronically to keenan.dru@epa.gov.

Comments on the draft 401Certification should be sent to Loren Moore, Idaho Department of Environmental Quality, 1410 N. Hilton, Boise, Idaho 83706 or electronically to Loren.Moore@deq.idaho.gov.

FOR FURTHER INFORMATION CONTACT: Permit documents may be found on the EPA Region 10 website at: https://www.epa.gov/npdes-permits/draft-npdes-general-permit-hydroelectric-generating-facilities-idaho. Copies of the draft general permit and Fact Sheet are also available upon request. Requests may be made to Audrey Washington at (206) 553-0523 or to Dru Keenan at (206) 553-1219. Requests may also be electronically mailed to: Washington.audrey@epa.gov, or keenan.dru@epa.gov.

SUPPLEMENTARY INFORMATION:

I. General Information

As proposed, the hydroelectric general permit would authorize five types of discharges from hydroelectric facilities: Equipment related cooling water, equipment and floor drain water, certain maintenance related waters, maintenance-related water during flood/high water events and backwash strainer water, and combinations of the preceding discharges. The general permit establishes notification requirements, permit eligibility requirements, effluent limitations, standards, prohibitions, best management practice plans, and impingement and entrainment prevention plans per 316(b) of the CWA. A description of the basis for the conditions and requirements of the draft general permit is given in the Fact Sheet. Owners and/or operators of hydroelectric generating facilities with these discharges, including those facilities currently authorized to discharge under individual permits, are eligible to apply for coverage. Facilities will receive a written notification from the EPA whether permit coverage and authorization to discharge under the general permit is approved. The general permit does not cover new sources as defined under 40 CFR 122.2.

II. Other Legal Requirements

This action is not a significant regulatory action and was therefore not submitted to the Office of Management and Budget (OMB) for review under Executive Orders 12866, Regulatory Planning and Review, and 13563, Improving Regulation and Regulatory Review. State certification under section 401 of the CWA, compliance with Endangered Species Act, Essential Fish Habitat, Paperwork Reduction Act, and other requirements are discussed in the Fact Sheet to the proposed permit.

Dated: April 13, 2018.
Daniel D. Opalski,
Director, Office of Water and Watersheds, Region 10.

[FR Doc. 2018-08968 Filed 4-26-18; 8:45 am]

BILLING CODE 6560-50-P